DEPARTMENT OF AGRICULTURE

Submission for OMB Review; Comment Request

January 29, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Risk Management Agency

Title: Federal Crop Insurance Program Delivery Cost Survey and Interviews.

OMB Control Number: 0563-NEW.

Summary of Collection: The Risk Management Agency (RMA) provides insurance to American producers through the Federal Crop Insurance Corporation (FCIC) that manages the Federal crop insurance program. The insurance is provided through cooperative financial assistance agreements with private insurance companies, known as Approved Insurance Providers (AIPs), who in turn work with insurance agencies/agents to sell Federal crop insurance. The insurance companies who sell and service FCIC policies are reimbursed for their administrative and operating (A&O) expenses directly by RMA on behalf of the policyholders. The Government Accountability Office (GAO) was directed by Congress to conduct a review of crop insurance delivery costs. GAO released Report GAO-09-445 and among its recommendations was that RMA conduct a “study of the costs associated with selling and servicing crop insurance policies to establish a standard method for assessing agencies' reasonable costs in selling and servicing policies.”

Need and Use of the Information: RMA plans to conduct interviews with AIPs, insurance agents and insured farmers, and surveys to both insurance agents and insured farmers. RMA will use the information collected from the interviews and surveys in conjunction with the financials reported by AIPs to construct estimates of the cost of delivery for the Federal crop insurance program. The information will help identify opportunities for improvement (e.g., increased efficiency) in the delivery system. In addition, this information could also be used in RMA's program planning process before implementing any regulatory and programmatic changes in the future.

Description of Respondents: Business for-profit, farms.

Number of Respondents: 3,131.

Frequency of Responses: Reporting: Other (One time).

Total Burden Hours: 713.

Charlene Parker,
Departmental Information Clearance Officer.

[FR Doc. 2013-02317 Filed 2-1-13; 8:45 am]

BILLING CODE 3410-08-P